DEPARTMENT OF THE INTERIOR

National Park Service

Notice of Intent to Repatriate Cultural Items in the Possession of the Nebraska State Historical Society, Lincoln, NE

AGENCY: National Park Service, Interior.

ACTION: Notice.

Notice is hereby given in accordance with provisions of the Native American Graves Protection and Repatriation Act (NAGPRA), 43CFR 10.10 (a)(3), of the intent to repatriate cultural items in the possession of the Nebraska State Historical Society, Lincoln, NE, that meet the definition of “unassociated funerary objects” under Section 2 of the Act.

This notice is published as part of the National Park Service’s administrative responsibilities under NAGPRA, 43 CFR 10.2 (c). The determinations within this notice are the sole responsibility of the museum, institution, or Federal agency that has control of these cultural items. The National Park Service is not responsible for the determinations within this notice.

The 731 cultural items are 656 shell wampum beads and 75 glass beads.

In 1924, a collection containing 656 shell wampum beads and 75 glass beads labeled “Leary Site Burials” was donated to the Nebraska State Historical Society. In 2000 and 2001, the cultural items were located in the collections of the Nebraska State Historical Society, where they had been either previously missing or mislabeled. The cultural items derive from the Leary site (25RH1), a village and cemetery complex that is associated with the Oneota culture on the basis of oral tradition, archeological investigations, ethnohistory, and physical anthropology. The present-day representatives of the Oneota culture are the Iowa Tribe of Kansas and Nebraska; Iowa Tribe of Oklahoma; Otoe-Missouria Tribe of Indians, Oklahoma; and Kaw Nation of Oklahoma.

Nebraska State Historical Society conducted excavations at the Leary village and cemetery complex in 1936 and 1965, and recovered human remains and associated funerary objects. Thirty individuals and 301 associated funerary objects recovered by Nebraska State Historical Society at the Leary site were reported in a Notice of Inventory Completion published in the Federal Register on September 18, 1997, and were repatriated to the Iowa Tribe of Kansas and Nebraska; Iowa Tribe of Oklahoma; Otoe-Missouria Tribe of Indians, Oklahoma; and Kaw Nation of Oklahoma. The museum does not have evidence that there is an association between the 731 cultural items that are reported in this notice and the human remains from the burials that were excavated by the Nebraska State Historical Society in 1936 and 1965.

Based on the above-mentioned information, officials of the Nebraska State Historical Society have determined that, pursuant to 43 CFR 10.2 (d)(2), the 731 cultural items listed above are reasonably believed to have been placed with or near individual human remains at the time of death or later as part of the death rite or ceremony and are believed, by a preponderance of the evidence, to have been removed from specific burial sites of Native American individuals. Officials of the Nebraska State Historical Society also have determined that, pursuant to 43 CFR 10.2 (e), there is a relationship of shared group identity that can be reasonably traced between these unassociated funerary objects and the Iowa Tribe of Kansas and Nebraska; Iowa Tribe of Oklahoma; Otoe-Missouria Tribe of Indians, Oklahoma; and Kaw Nation of Oklahoma.

This notice has been sent to officials of the Iowa Tribe of Kansas and Nebraska; Iowa Tribe of Oklahoma; Otoe-Missouria Tribe of Indians, Oklahoma; and Kaw Nation of Oklahoma. Representatives of any other Indian tribe that believes itself to be culturally affiliated with these 731 unassociated funerary objects should contact Rob Bozell, Associate Director, Nebraska State Historical Society, 1500 R Street, P.O. Box 82554, Lincoln, NE 68501-2554, telephone (402) 471-4789, before November 8, 2001. Repatriation of the unassociated funerary objects to the Iowa Tribe of Kansas and Nebraska; Iowa Tribe of Oklahoma; Otoe-Missouria Tribe of Indians, Oklahoma; and Kaw Nation of Oklahoma may begin after that date if no additional claimants come forward.

Dated: August 8, 2001.
John Robbins,
Assistant Director, Cultural Resources Stewardship and Partnerships.

[FR Doc. 01-25156 Filed 10-5-01; 8:45 am]

BILLING CODE 4310-70-S